ENVIRONMENTAL PROTECTION AGENCY

[CERCLA 01-2020-0063 and 01-2024-0056; EPA-R01-SFUND-2025-0117; FRL-12709-01-R1]

First Modification to Bona Fide Prospective Purchaser Proposed Settlement Agreement and Covenant Not To Sue and Prospective Purchaser Proposed Settlement Agreement and Covenant Not To Sue Pursuant to the Comprehensive Environmental Response, Compensation, and Liability Act of 1980, as Amended; In Re: Mohawk Tannery Site, Located in Nashua, New Hampshire

AGENCY: Environmental Protection Agency (EPA).

ACTION: Notice of proposed settlement agreement; request for public comment.

SUMMARY: The U.S. Environmental Protection Agency (“EPA”) hereby provides notice of two proposed settlement agreements: the First Modification to Bona Fide Prospective Purchaser Settlement Agreement for Removal Action (“Blaylock Modified BFPPA”) between EPA and Blaylock LLC (“Blaylock”); and the Prospective Purchaser Settlement Agreement for CERCLA Response Actions (“Greenfield PPA”) between EPA and prospective purchaser Greenfield Environmental Mohawk Tannery Trust LLC, in its representative capacity as Trustee of the Mohawk Tannery Site Environmental Response Trust (“Greenfield”). The two settlement agreements concern the Mohawk Tannery Site in Nashua, New Hampshire. The Blaylock Modified PPA and the Greenfield PPA are entered into pursuant to the Comprehensive Environmental Response, Compensation, and Liability Act, as amended (“CERCLA,” also known as the Superfund law), and the authority of the Attorney General of the United States to compromise and settle claims of the United States. The proposed Blaylock Modified BFPPA is between the U.S. Environmental Protection Agency (“EPA”) and bona fide prospective purchaser Blaylock Holdings, LLC. The proposed Blaylock Modified BFPPA requires that Blaylock conduct work under EPA oversight in exchange for a covenant not to sue pursuant to sections 106 and 107(a) of CERCLA, 42 U.S.C. 9606 and 9607(a) for existing contamination at the Mohawk Tannery Site. The Blaylock Modified BFPPA provides pre-authorized mixed funding for the work. Under the Greenfield PPA, Greenfield has an agreement to assume long-term ownership duties and to perform post-removal site controls in connection with approximately 4 acres of property (the “Containment Parcel”) located in Nashua, New Hampshire, which is a part of the Mohawk Tannery Site as set forth in the Blaylock Modified BFPPA, EPA Region 1 CERCLA Docket No. 01-2024-0056 pertaining to the Site and the Containment Parcel, which is a portion of the Site. Blaylock and Greenfield consent to and will not contest the authority of the United States to enter into the Blaylock Modified BFPPA and the Greenfield PPA, or to implement or enforce their respective terms. Blaylock and Greenfield recognize that these settlement agreements have been negotiated in good faith and that the Blaylock Modified BFPPA and Greenfield PPA are entered into without the admission or adjudication of any issue of fact or law.

DATES: Comments must be submitted by June 16, 2025.

ADDRESSES: The proposed settlement agreements and related Site documents are available at EPA's website https://www.epa.gov/superfund/mohawk. The proposed settlement agreements and related Site documents are available for public inspection at the U.S. EPA, Region 1, SEMS Records and Information Center, 5 Post Office Square, Suite 100, Boston, MA 02109 by appointment only (by calling 617-918-1440 or by emailing r1.records-sems@epa.gov). The proposed settlement agreement are also available for public inspection at https://www.regulations.gov by searching for Docket ID No. EPA-R01-SFUND-2025-0117.

FOR FURTHER INFORMATION CONTACT: RuthAnn Sherman, Senior Enforcement Counsel, Office of Regional Counsel, U.S. Environmental Protection Agency, Region 1, 5 Post Office Square, Suite 100, Boston, MA 02109, (617) 918-1886, email: sherman.ruthann@epa.gov.

SUPPLEMENTARY INFORMATION: Submit any comments online via https://www.regulations.gov (Docket ID No. EPA-R01-SFUND-2025-0117). Follow the online instructions for submitting comments. Once submitted, comments cannot be edited or removed from Regulations.gov. Do not submit electronically any information you consider to be Confidential Business Information (“CBI”) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For the full EPA public comment policy, information about CBI or multimedia submissions, and general guidance on making effective comments, see: https://www.epa.gov/dockets/commenting-epa-dockets. Any personally identifiable information (e.g., name, address, phone number) included in the comment form or in an attachment may be publicly disclosed in a docket or on the internet (via Regulations.gov, a federal agency website, or a third-party, non-government website with access to publicly-disclosed data on Regulations.gov). By submitting a comment, you agree to the terms of participation, available at https://www.regulations.gov/user-notice) and privacy notice available at https://www.regulations.gov/privacy-notice).

For 30 days following the date of publication of this notice, EPA will receive written comments relating to the proposed settlement agreements. EPA will consider all comments received and may modify or withdraw its consent to the proposed settlement agreements if comments received disclose facts or considerations which indicate that the settlements are inappropriate, improper, or inadequate. EPA's response to any comments received will be available for public inspection at the U.S. EPA, Region 1, SEMS Records and Information Center, 5 Post Office Square, Suite 100, Boston, MA 02109 by appointment only (by calling 617-918-1440 or by emailing r1.records-sems@epa.gov). EPA's response to any comments will also be made available at EPA's website https://www.epa.gov/superfund/mohawk.

Bryan Olson,
Director, Superfund and Emergency Management Division, United States Environmental Protection Agency.

[FR Doc. 2025-08725 Filed 5-15-25; 8:45 am]

BILLING CODE 6560-50-P